DEPARTMENT OF AGRICULTURE

Food Safety and Inspection Service

[Docket No. 02-003N]

Puerto Rico Conference on Animal and Egg Production Food Safety

AGENCY: Office of the Under Secretary for Food Safety, USDA.

ACTION: Notice of meeting.

SUMMARY: The Office of the Under Secretary for Food Safety, U.S. Department of Agriculture (USDA), is co-sponsoring, along with the Food and Drug Administration (FDA) and the University of Puerto Rico (UPR), a Conference on Animal and Egg Production Food Safety. The conference is to be held in San Juan, Puerto Rico on July 9-11, 2002. The conference grows out of a Memorandum of Understanding (MOU) 225-00-8002 among FDA, FSIS, and UPR, which was signed on December 7, 2000. The MOU provides a framework for all parties to collaborate on mutually agreed upon scientific and regulatory activities that pertain to products that are within the jurisdiction of FDA and FSIS. These activities are intended to support and encourage understanding of science-based regulatory systems in the countries of the Americas and to lead to enhanced cooperation among regulatory authorities. This conference is a part of the Action Plan between FSIS and FDA in support of the MOU. It is intended to serve as a model for future conferences. This conference should help to establish Puerto Rico as a Food Safety Center of Excellence for the Caribbean, and possibly all of Latin America, in animal and egg production food safety.

DATES: The meeting will be held July 9-11, 2002. On July 9, the registration will begin at 1 p.m. until 5 p.m. On July 10-11, 2002, the meeting will be held 9 a.m. until 6 p.m.

ADDRESSES: The meeting will be held at the Caribe Hilton San Juan Hotel, San Geronimo Grounds, San Juan, Puerto Rico 00901, (787) 721-0303.

FOR FURTHER INFORMATION CONTACT: To register for the meeting, contact either Mary Harris, Food Safety and Inspection Service, in Washington, DC (202) 690-6497, fax No: (202) 690-6500, or e-mail: mary.harris@fsis.usda.gov, or Dr. Edna Negron, University of Puerto Rico, Mayaguez, Puerto Rico, (787) 265-5410, fax No. (787) 265-5410 or e-mail: ed_negron@rumad.uprm.edu.

If you require a sign language interpreter or other special accommodations, please notify Ms. Harris at the above phone number on or before June 27. For technical information about the conference, contact Harry Walker, Food Safety and Inspection Service, Animal Production Food Safety Staff, FSIS (202) 720-4768 or by e-mail harry.walker@fsis.usda.gov.

SUPPLEMENTARY INFORMATION:

Background

The Puerto Rico Conference will review the status of food safety at the food animal production level, provide an update on industry quality assurance activities, and touch on research in support of animal production food safety practices. The conference will provide an opportunity for discussion of (1) what additional educational efforts are needed to improve food safety at the animal production level and (2) the gaps in research to address food safety at the animal production level. In developing the agenda, the Federal cooperators have been joined by industry and academia. These groups will also play important roles in the conference.

Participation in the conference will be limited to available seating (approximately 250 people). The target audience for the conference includes representatives from food safety regulatory agencies, animal producers, animal producer organizations, veterinarians, animal scientists, agricultural educators, extension agents, researchers, consumers and others with interest in food safety.

Additional Public Notification

Pursuant to Departmental Regulation 4300-4, “Civil Rights Impact Analysis,” dated September 22, 1993, FSIS has considered the potential civil rights impact of this notice on minorities, women, and persons with disabilities. Therefore, to better ensure that these groups and others are made aware of this meeting, FSIS will announce it and provide copies of the Federal Register publication in the FSIS Constituent Update.

The Agency provides a weekly FSIS Constituent Update, which is communicated via fax to over 300 organizations and individuals. In addition, the update is available on line through the FSIS web page located at http://www.fsis.usda.gov. The update is used to provide information regarding Agency policies, procedures, regulations, Federal Register Notices, FSIS public meetings, recalls and any other types of information that could affect or would be of interest to our constituents/stakeholders. The constituent fax list consists of industry, trade, and farm groups, consumer interest groups, allied health professionals, scientific professionals and other individuals that have requested to be included. Through these various channels, the Agency is able to provide information with a much broader, more diverse audience.

For more information and to be added to the constituent fax list, fax your request to the Office of Congressional and Public Affairs, at (202) 720-5704.

Done at Washington, DC on: March 28, 2002.
Margaret O'K Glavin,
Acting Administrator.

[FR Doc. 02-7916 Filed 4-1-02; 8:45 am]

BILLING CODE 3410-DM-P